DEPARTMENT OF COMMERCE

National Oceanic and Atmospheric Administration

RIN 0648-XB110

Marine Mammals; File No. 17159

AGENCY: National Marine Fisheries Service (NMFS), National Oceanic and Atmospheric Administration (NOAA), Commerce.

ACTION: Notice; receipt of application.

SUMMARY: Notice is hereby given that Simon Nash, Parthenon Entertainment Ltd, 34 Whiteladies Road, Bristol, BS8 2LG, United Kingdom, has applied in due form for a permit to conduct commercial or educational photography on spinner dolphins (Stenella longirostris).

DATES: Written, telefaxed, or email comments must be received on or before April 25, 2012.

ADDRESSES: These documents are also available upon written request or by appointment in the following offices:

Permits and Conservation Division, Office of Protected Resources, NMFS, 1315 East-West Highway Room 13705, Silver Spring, MD 20910; phone (301) 427-8401; fax (301) 713-0376; and

Pacific Islands Region, NMFS, 1601 Kapiolani Blvd., Rm. 1110, Honolulu, HI 96814-4700; phone (808) 944-2200; fax (808) 973-2941.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Kristy Beard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant is requesting authorization to film spinner dolphins near Midway Atoll in the Pacific Ocean. Dolphins would be approached during morning and late afternoon when they are typically active, but would not be approached during their mid-day resting period. Filming techniques include above water from a vessel, a pole-mounted underwater camera, and a waterproof camera used by a snorkeling cameraman. Up to 1,300 dolphins could be approached annually during filming activities. Footage would be used primarily for a television documentary about Hawaiian wildlife that would be aired on Animal Planet in the U.S. and elsewhere internationally. The initial filming period is scheduled for two weeks in June/July 2012. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 20, 2012.
Tammy C. Adams,
Acting Chief, Permits and Conservation Division, Office of Protected Resources, National Marine Fisheries Service.

[FR Doc. 2012-7252 Filed 3-23-12; 8:45 am]

BILLING CODE 3510-22-P